FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 18, 2020.

A. Federal Reserve Bank of San Francisco (Sebastian Astrada, Director, Applications) 101 Market Street, San Francisco, California 94105-1579:

1. Joseph D. Stilwell; Stilwell Value LLC; Stilwell Partners, L.P.; Stilwell Activist Fund, L.P.; Stilwell Activist Investments, L.P.; and Stilwell Value Partners VII, L.P.; all of New York, New York; as a group acting in concert to acquire voting shares of Sound Financial Bancorp, Inc., and thereby indirectly acquire voting shares of Sound Community Bank, both of Seattle, Washington.

Board of Governors of the Federal Reserve System, May 29, 2020.
Yao-Chin Chao,
Assistant Secretary of the Board.

[FR Doc. 2020-11997 Filed 6-3-20; 8:45 am]

BILLING CODE 6210-01-P